DEPARTMENT OF COMMERCE

National Institute of Standards and Technology

Notice of Government Owned Invention Available for Licensing

AGENCY: National Institute of Standards and Technology, Commerce.

ACTION: Notice of Government owned invention available for licensing.

SUMMARY: The invention listed below is owned in whole by the U.S. Government as represented by the Department of Commerce. The invention is available for licensing in accordance with 35 U.S.C. 207 and 37 CFR Part 404 to achieve expeditious commercialization of results of federally funded research and development.

FOR FURTHER INFORMATION CONTACT: Technical and licensing information on this invention may be obtained by writing to: National Institute of Standards and Technology, Office of Technology Partnerships, Attn: Mary Clague, Building 222, Room A155, Gaithersburg, MD 20899. Information is also available via telephone: 301-975-4188, fax 301-975-3482, or e-mail: mary.clague@nist.gov. Any request for information should include the NIST Docket number and title for the invention as indicated below.

SUPPLEMENTARY INFORMATION: NIST may enter into a Cooperative Research and Development Agreement (“CRADA”) with the licensee to perform further research on the invention for purposes of commercialization. The invention available for licensing is:

[NIST Docket Number: 06-010]

Title: Self-Assembled Monolayer Based Silver Switches.

Abstract: The invention is a two-state switching device based on two electrodes separated by a self-assembled monolayer. At least one of the electrodes may be composed of silver and the other electrode of any electrically conductive material, such as metals, especially gold or platinum. In the high-resistance OFF state, the two electrodes are separated by a non-electrically conducting organic monolayer. Application of a negative threshold bias causes a silver ion filament to grow within the monolayer and bridge the gap between the two electrodes, changing the device into a low-resistance ON state. The device may be turned OFF by application of a positive threshold bias, which causes the ionic filament to retract back into the silver electrode. The device is easy to fabricate, smaller than currently available devices, and because the only required components are silver, another electrode and a self-assembled monolayer between them, it should be possible to incorporate this switch into a variety of device geometries.

Dated: October 3, 2007.
James M. Turner,
Acting Director.

[FR Doc. E7-20355 Filed 10-15-07; 8:45 am]

BILLING CODE 3510-13-P